FEDERAL MARITIME COMMISSION

[FMC-2024-0015]

Agency Information Collection Activities: Submission for OMB Review; Comment Requested; Controlled Carriers

AGENCY: Federal Maritime Commission.

ACTION: Notice and request for comment.

SUMMARY: The Federal Maritime Commission (Commission) is giving public notice that the agency has submitted the continuing information collection listed below in this notice to the Office of Management and Budget (OMB) for approval. The public is invited to comment on the proposed information collection pursuant to the Paperwork Reduction Act of 1995.

DATES: Written comments must be submitted on or before April 23, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: For additional information, please email Lucille Marvin, 202-523-5800, OMD@fmc.gov.

SUPPLEMENTARY INFORMATION: The Commission invites the general public and other Federal agencies to comment on any aspect of the continuing information collection listed in this notice, as required by the Paperwork Reduction Act of 1995 (44 U.S.C. 3501 et seq.). We are particularly interested in receiving comments on: (1) The necessity and utility of the proposed information collection for the proper performance of the agency's functions; (2) the accuracy of the estimated burden; (3) ways to enhance the quality, utility, and clarity of the information to be collected; and (4) the use of automated collection techniques or other forms of information technology to minimize the information collection burden.

Comments submitted in response to this notice will be included or summarized in our request for OMB approval of the relevant information collection. All comments are part of the public record and subject to disclosure. Please do not include any confidential or inappropriate material in your comments.

Previous Request for Comments

On August 23, 2024, the Commission published a notice and request for comment in the Federal Register (89 FR 68159) regarding the agency's request for approval from OMB for information collections as required by the Paperwork Reduction Act of 1995. During the 60-day period, the Commission received one comment. That comment was outside the scope of the information collection and was not considered.

Information Collection Open for Comment

Title: 46 CFR part 565—Controlled Carriers.

OMB Approval Number: 3072-0060 (Expires April 30, 2025).

Abstract: The Shipping Act requires that the Commission monitor the practices of controlled carriers (defined at 46 U.S.C. 40102(9)) to ensure that they do not maintain rates or charges in their tariffs and service contracts that are below a level that is just and reasonable; nor establish, maintain, or enforce unjust or unreasonable classifications, rules, or regulations in those tariffs or service contracts that result or are likely to result in the carriage or handling of cargo at rates or charges that are below a just and reasonable level, 46 U.S.C. 40701-40706. Part 565, title 46 of the Code of Federal Regulations establishes the method by which the Commission determines whether a particular ocean common carrier is a controlled carrier subject to 46 U.S.C. 40701-40706. When a government acquires a controlling interest in an ocean common carrier, or when a controlled carrier newly enters a United States trade, the Commission's rules require that such a carrier notify the Commission of these events.

Current Actions: There are no changes to this information collection, and it is being submitted for extension purposes only.

Type of Review: Extension.

Needs and Uses: The Commission uses these notifications in order to effectively discharge its statutory duty to determine whether a particular ocean common carrier is a controlled carrier and therefore subject to the requirements of 46 U.S.C. 40701-40706.

Frequency: The submission of notifications from controlled carriers is not assigned to a specific time frame by the Commission; they are submitted as circumstances warrant. The Commission only requires notification when a majority portion of an ocean common carrier becomes owned or controlled by a foreign government, or when a controlled carrier newly begins operation in any United States trade.

Type of Respondents: Controlled carriers are ocean common carriers that are, or whose operating assets are, directly or indirectly, owned or controlled by a foreign government. The Shipping Act defines “controlled carriers” at 46 U.S.C. 40102(9).

Number of Annual Respondents: The Commission cannot anticipate when a new controlled carrier may enter the United States trade, when ownership or control of a carrier will change so that notification is required, or when a controlled carrier exits the United States trade. Over the past three years, the Commission has received, on average, fewer than one notification per year. However, as the Commission has recently classified several additional carriers as controlled carriers, the total estimated burden is increased.

Estimated Time per Response: The estimated time for each notification is 2 hours.

Total Annual Burden: For purposes of calculating total annual burden, the Commission assumes 12 responses annually. The Commission thus estimates the total annual burden to be 24 hours (12 responses × 2 hours per response).

David Eng,
Secretary.

[FR Doc. 2025-04937 Filed 3-21-25; 8:45 am]

BILLING CODE 6730-02-P